DEPARTMENT OF HEALTH AND HUMAN SERVICES

National Institutes of Health

Proposed Collection; Comment Request; NCI Cancer Information Service Base Demographics/Customer Service Data Collection

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: NCI Cancer Information Service Base Demographics/Customer Service Data Collection. Type of Information Collection Request: Revision of currently approved collection 0925-0208. Need and Use of Information Collection: The National Cancer Institute's Cancer Information Service (CIS) provides the latest information on cancer, clinical trials, and tobacco cessation. Characterizing clients and how they found out about the CIS is essential to customer service, program planning and promotion. This effort involves a brief survey of clients of the 1-800-4-CANCER and 1-877-44U-QUIT toll-free services and LiveHelp, a web-based chat service. The telephone survey contains eight questions—3 customer service and 5 demographic—asked of a subset of callers (cancer patients, tobacco users, their family or friends, and the general public) at the end of usual service for an annual total of approximately 115,944 callers. All (100%) of these telephone clients will be asked the 3 customer service questions for an annual total of 113,061 callers. Of the 113,061 telephone clients we serve annually, 36% (n=40,702) will be randomly selected and asked five additional demographic questions. The LiveHelp web survey involves 50% of LiveHelp clients the same eight questions (3 customer service questions and 5 demographic questions) for an annual total of approximately 2,883 users. The combined total of clients to be surveyed each year for both telephone and LiveHelp services is 115,944 for a total of annual burden hours of 2,616. Frequency of Response: Single time. Affected Public: Individuals or households. Type of Respondents: Patients, relatives, friends, and general public. The annual reporting burden is as follows:

Estimated Number of Respondents: 115,944; Estimated Number of Responses per Respondent: 1; Average Burden Hours Per Response: 0.0167 and Estimated Total Annual Burden Hours Requested: 2616. The annualized cost to respondents is estimated at: $47,323. There are no Capital Costs to report. There are no Operating or Maintenance Costs to report.

Type of respondents | Estimated number of respondents | Estimated number of responses per respondent | Average burden hours per response | Estimated total annual burden hours requested
Telephone Client ¹
5 Demographic Questions (average annual sampling rate = 36%) | 40,702 | 1 | 0.0167 | 680
3 Customer Service (100% sampling) | 113,061 | 1 | 0.0167 | 1888
LiveHelp Clients ²
5 Demographic + 3 Customer Service questions (50% sampling) | 2883 | 1 | 0.0167 | 48
Total | 115,944 |  |  | 2,616
¹ Approximately 36% of telephone and quitline clients will be sampled for the demographic questions. That is, 25% will be routinely sampled and up to 100% will be sampled for short periods of time during special promotions. This will average to be about 36% of all callers annually. The 40,702 clients who are asked the 5 demographic questions are not additional clients as they are included in the 113,061 who answer the 3 customer service questions. However, they do have additional burden as they are asked the 5 the additional demographic questions. Thus, a burden calculation for these additional 5 questions is presented and the total number of respondents is equal to 113,061 for telephone clients plus 2,883 for LiveHelp clients.
² Approximately 50% of LiveHelp clients will be sampled for demographic and customer service questions.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Linda Squiers, Ph.D., Project Officer, National Cancer Institute, Cancer Information Service, 6116 Executive Blvd., Suite 3056A, Room 3029, Rockville, MD 20892 or call non-toll-free number 301-594-9075 or E-mail your request, including your address to: squiersl@mail.nih.gov.

Comments Due Date: Comments regarding this information collection are best assured of having their full effect if received within 60 days of the date of this publication.

Dated: September 7, 2006.
Rachelle Ragland-Greene,
NCI Project Clearance Liaison, National Institutes of Health.

[FR Doc. E6-15296 Filed 9-14-06; 8:45 am]

BILLING CODE 4101-01-P